DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 18, 2008.

Interested persons are invited to submit written comments regarding the subject matter of the investigations to the Director, Division of Trade Adjustment Assistance, at the address shown below, not later than July 18, 2008.

The petitions filed in this case are available for inspection at the Office of the Director, Division of Trade Adjustment Assistance, Employment and Training Administration, U.S. Department of Labor, Room C-5311, 200 Constitution Avenue, NW., Washington, DC 20210.

Signed at Washington, DC, this 25th day of June 2008.
Linda G. Poole,
Certifying Officer, Division of Trade Adjustment Assistance.

Appendix
[TAA petitions instituted between 6/16/08 and 6/20/08]
TA-W | Subject firm (petitioners) | Location | Date of institution | Date of petition
63541 | Avery Dennison (Comp) | Fontana, CA | 06/16/08 | 06/13/08
63542 | Home Depot (State) | Opelousas, LA | 06/16/08 | 06/13/08
63543 | Pliant Plastic Company (UE) | South Deerfield, MA | 06/17/08 | 06/12/08
63544 | ITW Alma (Comp) | Kennesaw, GA | 06/17/08 | 06/16/08
63545 | T. W. Lamination (Woodbridge) (Comp) | Del Rio, TX | 06/17/08 | 06/11/08
63546 | BBDO Detroit (State) | Troy, MI | 06/17/08 | 06/12/08
63547 | Lapeer Metal Stamping (Wkrs) | Lapeer, MI | 06/17/08 | 06/16/08
63548 | Colville Indian Plywood and Veneer Co. of Omak (Comp) | Omak, WA | 06/17/08 | 06/04/08
63549 | CEVA Logistics—Contract 10164 (Comp) | Miamisburg, OH | 06/17/08 | 06/10/08
63550 | Pazvenu Apparel, Inc. (Wkrs) | New York, NY | 06/17/08 | 06/01/08
63551 | Culp, Inc. Culp Weaving Plant (Comp) | Graham, NC | 06/17/08 | 06/13/08
63552 | Maxim Integrated Products—San Jose (Comp) | San Jose, CA | 06/17/08 | 06/13/08
63553 | Maxim Integrated Products—Sunnyvale (Comp) | Sunnyvale, CA | 06/17/08 | 06/13/08
63554 | Cranford Wood Carving/McCrorie Group, LLC (Comp) | Hickory, NC | 06/18/08 | 06/17/08
63555 | Hurd Window and Door (Wkrs) | Medford, WI | 06/18/08 | 06/17/08
63556 | Intel Corporation, California Corporate Services Group (Comp) | Santa Clara, CA | 06/18/08 | 06/16/08
63557 | Royal Home Fashions (Comp) | Henderson, NC | 06/18/08 | 06/17/08
63558 | Park Shirt Company (AFLCIO) | Jamestown, TN | 06/18/08 | 06/17/08
63559 | Shieldalloy Metallurgical Corporation (Wkrs) | Newfield, NJ | 06/18/08 | 05/20/08
63560 | Artisans, Inc. (Comp) | Glen Flora, WI | 06/18/08 | 06/17/08
63561 | United Airlines (Wkrs) | El Segundo, CA | 06/18/08 | 06/07/08
63562 | Winchester Electronics—Rock Hill (Comp) | Rock Hill, SC | 06/18/08 | 06/16/08
63563 | Winchester Electronics—Franklin (Comp) | Franklin, MA | 06/18/08 | 06/16/08
63564 | Sensormatic Electronic Corporation (State) | San Antono, PR | 06/18/08 | 06/17/08
63565 | Four Season (Comp) | Grapevine, TX | 06/19/08 | 06/18/08
63566 | Plastech (Comp) | Moraine, OH | 06/19/08 | 06/18/08
63567 | Huber Engineered Woods, LLC (Wkrs) | Broken Bow, OK | 06/19/08 | 05/01/08
63568 | Jockey International, Inc. (Comp) | Mocksville, NC | 06/19/08 | 06/18/08
63569 | Leggett and Platt (Wkrs) | Tupelo, MS | 06/19/08 | 06/18/08
63570 | Blue Angel's Fashion (Wkrs) | San Francisco, CA | 06/20/08 | 06/19/08
63571 | West Point Home (Comp) | New York, NY | 06/20/08 | 06/19/08
63572 | Narraganett Jewerly, Inc. d/b/a C & J Jewelry Co. (Comp) | Providence, RI | 06/20/08 | 06/19/08
63573 | Avon Products, Inc. (Wkrs) | Suwanee, GA | 06/20/08 | 06/19/08
63574 | Albany International Research Company (Rep) | Mansfield, MA | 06/20/08 | 06/19/08
63575 | Philips Consumer Lifestyles (Comp) | Ledgewood, NJ | 06/20/08 | 06/18/08
63576 | Matador Tool and Die, Inc. (Comp) | Grand Rapids, MI | 06/20/08 | 06/19/08

[FR Doc. E8-15337 Filed 7-7-08; 8:45 am]

BILLING CODE 4510-FN-P